FEDERAL MARITIME COMMISSION

Privacy Act of 1974; System of Records

AGENCY: Office of the Secretary, Federal Maritime Commission.

ACTION: Notice of a modified system of records.

SUMMARY: Non-attorneys that wish to be admitted to practice and conduct business before the FMC on behalf of a regulated industry client, must complete and submit a Form FMC-12 package. The FMC-2 Non-Attorney Practitioner Files-FMC system of records contains information collected by the form FMC-12 application process, relevant to a non-attorney's qualifications to practice before the Commission.

DATES: Written comments must be received no later than November 26, 2021. The revisions will become effective as proposed on November 26, 2021 unless the Commission receives comments that would result in a contrary determination.

ADDRESSES: Submit written comments to Rachel E. Dickon, Secretary, Federal Maritime Commission, 800 N Capitol Street NW, Washington, DC 20573-0001; or email comments to: Secretary@fmc.gov (email comments as an attachment in MS Word or PDF). Include in the Subject Line: Comments on Systems of Records Notice FMC-2.

FOR FURTHER INFORMATION CONTACT: Rachel E. Dickon, Office of the Secretary, 800 N Capitol Street NW, Suite 1046, Washington, DC 20573-0001. (202) 523-5725. Secretary@fmc.gov.

SUPPLEMENTARY INFORMATION: This system is being updated to:

• Change the name from, FMC-2 Non-Attorney Practitioner File-FMC to FMC-2 Non-Attorney Practitioner Files;

• Conform with the publication format required by Office of Management and Budget (OMB) Circular A-108;

• Incorporate two additional routine uses as directed pursuant to OMB Memorandum M-17-12; and

• Update the “Categories of Records in the System” section to delete the collection of Social Security/Taxpayer Identification Numbers and provide more specific information regarding collection.

SYSTEM NAME AND NUMBER:

FMC-2 Non-Attorney Practitioner Files.

SECURITY CLASSIFICATION:

Unclassified.

SYSTEM LOCATION:

Office of the Secretary, Federal Maritime Commission, 800 North Capitol Street NW, Washington, DC 20573-0001.

SYSTEM MANAGER(S):

Secretary, Federal Maritime Commission, 800 N Capitol Street NW, Washington, DC 20573-0001, Secretary@fmc.gov.

AUTHORITY FOR MAINTENANCE OF THE SYSTEM:

46 CFR 502.27.

PURPOSE(S) OF THE SYSTEM:

The purpose of the system is to maintain a relevant verification source of information on non-attorney practitioners who are registered to practice before the Commission. The Federal Maritime Commission administers the Non-Attorneys Practicing Before the Commission program, as authorized under 46 CFR 502.27, which allows any U.S. citizen who is not an attorney at law to conduct business with the FMC on behalf of a regulated industry client. Only non-attorneys must submit a completed form FMC-12 package to be considered for and granted admission to practice before the Commission.

CATEGORIES OF INDIVIDUALS COVERED BY THE SYSTEM:

Individuals, who are not attorneys, who apply for and are granted permission to practice before the Commission.

CATEGORIES OF RECORDS IN THE SYSTEM:

Application forms containing descriptions of educational and professional experience and qualifications, and letters of reference related to non-attorney practitioners which may include the following:

• Residence address

• Citizenship status

• Date/place of birth

• Education

• Criminal Prosecutions

RECORD SOURCE CATEGORIES:

Applicants.

ROUTINE USES OF RECORDS MAINTAINED IN THE SYSTEM, INCLUDING CATEGORIES OF USERS AND PURPOSES OF SUCH USES:

In addition to those disclosures generally permitted under 5 U.S.C. 552a(b) of the Privacy Act, the records in this system of records are used or may be used:

1. To refer, where there is an indication of a violation or potential violation of law, whether civil or criminal or regulatory in nature, information to the appropriate agency, whether Federal, State, or local, charged with the responsibility of investigating or prosecuting such violation or charged with enforcing or implementing the statute, rule, regulation or order issued pursuant thereto.

2. To request from a Federal, State, or local agency maintaining civil, criminal, or other relevant enforcement information, data relevant to a Commission decision concerning the hiring or retention of an employee, the issuance of a security clearance, the letting of a contract, or the issuance of a license, grant, or other benefit.

3. To provide or disclose information to a Federal agency in response to its request in connection with the hiring or retention of an employee, the issuance of a security clearance, the letting of a contract, or the issuance of a license, grant or other benefit by the requesting agency, to the extent that the information is relevant and necessary to the requesting agency's decision on that matter.

4. To disclose information to the public when disclosures are made on the record in a judicial or administrative proceeding. To disclose relevant and necessary information to any component of the Department of Justice for the purpose of representing the FMC, its officers, employees, or members in pending or potential litigation to which the record is pertinent.

5. In an appropriate proceeding before a court, grand jury, or administrative or adjudicative body or official, when the FMC or other Agency representing the FMC determines the records are relevant and necessary to the proceeding to which the government is a party; or in an appropriate proceeding before an administrative or adjudicative body when the adjudicator determines the records to be relevant to the proceeding.

6. To contractors, grantees, experts, consultants, students, and others performing or working on a contract, service, grant, cooperative agreement, or other assignment for the federal government when necessary to accomplish an agency function related to this System of Records.

7. To appropriate agencies, entities, and persons when (1) the FMC suspects or has confirmed that there has been a breach of the system of records; (2) the FMC has determined that as a result of the suspected or confirmed breach there is a risk of harm to individuals, the FMC (including its information systems, programs, and operations), the Federal Government, or national security; and (3) the disclosure made to such agencies, entities, and persons is reasonably necessary to assist in connection with the FMC's efforts to respond to the suspected or confirmed breach or to prevent, minimize, or remedy such harm.

8. To another Federal agency or Federal entity, when the FMC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

• Physical records are maintained in file folders in a limited access location.

• Electronic records are maintained within the confines of the FMC General Support System (FMC GSS).

POLICIES AND PRACTICES FOR RETRIEVAL OF RECORDS:

• Physical records are indexed alphabetically by name.

• Electronic records are retrievable by name, address, company, application date, admission date, or card number.

POLICIES AND PRACTICES FOR RETENTION AND DISPOSAL OF RECORDS:

These files will be destroyed 30 years after the applicant no longer practices before the Federal Maritime Commission. https://www.archives.gov/files/records-mgmt/rcs/schedules/independent-agencies/rg-0358/daa-0358-2017-0007_sf115.pdf.

See Sequence 3, Non-Attorney Practitioner files, N1-358-09-7/2 Cut off at end of calendar year in which it is established that applicant no longer practices before the Commission. Destroy 15 years after cut-off.

ADMINISTRATIVE, TECHNICAL, AND PHYSICAL SAFEGUARDS:

• Access to physical records in this system are limited to those individuals who have a need to know the information for performance of their official duties and who have appropriate clearances or permission.

• Electronic files are safeguarded to meet multiple National Institute of Standards and Technology (NIST) Security Standards with password and identification protections. File access is limited to individuals who have a need to know the information for performance of their official duties and who have appropriate clearances or permission.

RECORD ACCESS PROCEDURES:

Requests for access to a record should be directed to the Secretary listed at the above address. Requests may be in person or by mail and shall meet the requirements set out in 46 CFR 503.65.

CONTESTING RECORD PROCEDURES:

An individual desiring to amend a record shall direct such a request to the Secretary at the above listed address. Such requests shall specify the desired amendments and the reasons therefore and shall meet the requirements set out in of 46 CFR 503.66.

NOTIFICATION PROCEDURES:

Any individual shall be informed whether or not any Commission system of records contains a record pertaining to him or her when requested in accordance with the requirements of 46 CFR 503.63(a).

EXEMPTIONS PROMULGATED FOR THE SYSTEM:

None.

HISTORY:

78 FR 55703— https://www.federalregister.gov/documents/2013/09/11/2013-22072/privacy-act-of-1974-systems-of-records.

Rachel E. Dickon,
Secretary.

[FR Doc. 2021-23000 Filed 10-25-21; 8:45 am]

BILLING CODE 6730-02-P